SECURITIES AND EXCHANGE COMMISSION

Sunshine Act Meetings

Notice is hereby given, pursuant to the provisions of the Government in the Sunshine Act, Pub. L. 94-409, that the Securities and Exchange Commission will hold the following meetings during the week of December 11, 2000.

An open meeting will be held on Wednesday, December 13, 2000, at 10:00 a.m. in Room 1C30, the William O. Douglas Room and closed meetings will be held on Wednesday, December 13, 2000. and Thursday, December 14, 2000 at 11 a.m.

The subject matter of the open meeting will be:

The Commission will hear oral argument on an appeal by Russo Securities, Inc. (“RSI”), a registered broker-dealer, and Kimberly Kent, RSI's chief financial officer and registered financial and operations principal.

The law judge found that, on four separate dates between December 1995 and March 1996, RSI violated the Commission's net capital rule, failed to keep accurate books and records, and failed to notify the Commission of its net capital and books and records deficiencies. The law judge also found that Kent willfully aided and abetted, and caused, RSI's violations. The law judge fined RSI $100,000; suspended Kent for one year from association with a broker-dealer or a member of a national securities exchange or registered securities association, and fined Kent $25,000; and ordered RSI and Kent to cease and desist from future similar violations.

Among the issues likely to be argued are the following:

(1) Whether the stock due to RSI under its investment banking agreements was “readily convertible into cash,” and thus an allowable asset under the net capital rule;

(2) Whether the net capital rule's provision for disallowing assets not “readily convertible into cash” violates due process;

(3) Whether Kent's conduct satisfied the elements of aider and abettor liability; and

(4) What sanctions; if any, are appropriate.

For further information, contact Joan Loizeaux at (202) 942-0950.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c) (4), (8), (9)(A) and (10) and 17 CFR 200.402(a)(4), (8), (9)(A) and (10), permit consideration for the scheduled matter at the closed meeting.

The subject matter of the closed meeting scheduled for Wednesday, December 13, 2000 will be:

• Post argument discussion.

The subject matter of the closed meeting scheduled for Thursday, December 14, 2000 will be:

• Institution and settlement of injunctive actions; and

• Institution and settlement of administrative proceedings of an enforcement nature.

At times, changes in Commission priorities require alterations in the scheduling of meeting items. For further information and to ascertain what, if any, matters have been added, deleted or postponed, please contact:

The Office of the Secretary at (202) 942-7070.

Dated: December 6, 2000.
Margaret H. McFarland,
Deputy Secretary.

[FR Doc. 00-31485 Filed 12-6-00; 3:44 pm]

BILLING CODE 8010-01-M